DEPARTMENT OF THE INTERIOR

Bureau of Land Management

[FSRS84221GLKX0-16X-FF01R05000; IDI 039529/IDID105860944]

Notice of Proposed Withdrawal, Transfer of Administrative Jurisdiction, and Opportunity for Public Meeting for the Grays Lake National Wildlife Refuge, ID

AGENCY: Bureau of Land Management, Interior.

ACTION: Notice of proposed withdrawal.

SUMMARY: At the request of the United States Fish and Wildlife Service (USFWS) and subject to valid existing rights, the Secretary of the Interior proposes to withdraw 158.72 acres of public lands managed by the Bureau of Land Management (BLM) from settlement, sale, location, or entry under the public land laws, from location and entry under the United States mining laws, and from leasing under the mineral and geothermal leasing laws for an indefinite period and transfer administrative jurisdiction over these acres to USFWS for management as part of the National Wildlife Refuge System to support conservation of the aquatic and riparian habitats in the Grays Lake National Wildlife Refuge (NWR), Idaho. Publication of this notice temporarily segregates the lands from settlement, sale, location, or entry under the public land laws, from location and entry under the United States mining laws, and from leasing under the mineral and geothermal leasing laws, subject to valid existing rights, for up to 2 years, while the application is being processed. This notice initiates a 90-day comment period and announces an opportunity for the public to request a public meeting on the proposed withdrawal.

DATES: Comments and requests for a public meeting must be received by October 31, 2024.

ADDRESSES: All comments and meeting requests should be sent to the BLM Idaho State Office, Attn: 933-Realty/Grays Lake Withdrawal, 1387 S Vinnell Way, Boise, ID 83709, or email BLM_ID_LLID933000_Withdrawal@blm.gov.

FOR FURTHER INFORMATION CONTACT: Christine Sloand, BLM Idaho State Office, telephone: 208-373-3897, email: csloand@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The applicant is USFWS, and the petition/application requests the Secretary of the Interior to withdraw the following 158.72 acres of BLM-managed public lands from settlement, sale, location, or entry under the public land laws, from location and entry under the United States mining laws, and from leasing under the mineral and geothermal leasing laws for an indefinite period, subject to valid existing rights, and transfer administrative jurisdiction over these acres to USFWS for management as part of the National Wildlife Refuge System to support conservation of the aquatic and riparian habitats in the Grays Lake NWR, Idaho:

Boise Meridian, Idaho

T. 3 S., R. 43 E.,

Sec. 21, SE¼SW¼;

Sec. 28, NE¼NW¼;

Sec. 30, lot 3.

T. 4 S., R. 43 E.,

Sec. 26, NW¼SW¼.

The areas described aggregate 158.72 acres in Bonneville County.

This petition/application has been approved for publication by a Secretarial officer in the Department of the Interior and therefore constitutes a withdrawal proposal of the Secretary of the Interior (43 CFR 2310.1-3(e)).

The use of a right-of-way, interagency agreement, or cooperative agreement would not adequately protect the lands from nondiscretionary uses, which could result in a permanent loss of significant values and capital investments.

The USFWS requires continued use of rights contained in Water Right Partial Decree 13-13725 that is appurtenant to Tract 1b (T. 4 S., R. 43 E., sec. 26, NW¼SW¼).

There are no suitable alternative sites with equal or greater benefit to the government.

For a period of 90 days from the date of publication of this notice, all persons who wish to submit comments or desire a public meeting for the purpose of being heard on the proposed withdrawal must submit a request to the BLM Idaho State Office (see ADDRESSES). If the authorized officer determines that a public meeting will be held, a notice of the date, time, and place will be published in the Federal Register and local newspapers and on the BLM website at www.blm.gov at least 30 days before the scheduled date of the meeting.

Comments, including name and street address of respondents, will be available for public review at the BLM Idaho State Office during regular business hours, 8:00 a.m. to 4:30 p.m. Mountain Time, Monday through Friday, except Federal holidays. Before including your address, phone number, email address, or other personal identifying information in your comment, you should be aware that your entire comment—including your personally identifying information—may be made publicly available at any time. While you can ask us in your comment to withhold your personal identifying information from public review, we cannot guarantee that we will be able to do so. All submissions from organizations or businesses, and from individuals identifying themselves as representatives of officials of organizations or businesses, will be made available for public inspection in their entirety.

For a period until August 3, 2026, the lands will be segregated as specified above unless the application is denied or cancelled, or the withdrawal is approved prior to that date.

This withdrawal application will be processed in accordance with the regulations set forth in 43 CFR part 2300.

(Authority: 43 U.S.C. 1714)

Peter Ditton,
Acting Idaho State Director.

[FR Doc. 2024-17007 Filed 8-1-24; 8:45 am]

BILLING CODE 4331-15-P